DEPARTMENT OF COMMERCE

National Oceanic and Atmospheric Administration

[I.D. 091701C]

Nominations for a Federal Advisory Committee on Marine Protected Areas

AGENCY: National Marine Fisheries Service, National Oceanic and Atmospheric Administration (NOAA), Commerce.

ACTION: Notice of a reopening of an application deadline.

SUMMARY: The Department of Commerce is establishing a Federal Advisory Committee on Marine Protected Areas (Committee) pursuant to Executive Order 13158 and is seeking nominations for membership on this Committee.

DATES: Nominations must be postmarked on or before September 30, 2001.

ADDRESSES: Nominations should be sent to the Office of Ocean and Coastal Resource Management, NOAA, 1315 East-West Highway, Silver Spring, MD 20910, Attn: Federal Advisory Committee on Marine Protected Areas.

FOR FURTHER INFORMATION CONTACT: Roger Griffis, NOAA, (301) 713-3155, extension 104. E-mail: Roger.B.Griffis@noaa.gov.

SUPPLEMENTARY INFORMATION: On August 10, 2001, (66 FR 42204), NOAA published a notice requesting nominations for the Committee. Additional details about the Committee and the nomination process are provided in the notice and not repeated here. NOAA is re-opening the application deadline until September 30, 2001.

Nominations should be sent to (see ADDRESSES) and must be postmarked on or before September 30, 2001.

Dated: September 18, 2001.
William T. Hogarth,
Assistant Administrator for Fisheries National Marine Fisheries Service.

[FR Doc. 01-23976 Filed 9-24-01; 8:45 am]

BILLING CODE 3510-22-S